SMALL BUSINESS ADMINISTRATION

[Disaster Declaration #12168 and #12169]

Kentucky Disaster Number KY-00032

AGENCY: Small Business Administration.

ACTION: Amendment 5.

SUMMARY: This is an amendment of the Presidential declaration of a major disaster for the Commonwealth of Kentucky (FEMA-1912-DR), dated 05/11/2010.

Incident: Severe Storms, Flooding, Mudslides, and Tornadoes.

Incident Period: 05/01/2010 through 06/01/2010.

Effective Date: 06/15/2010.

Physical Loan Application Deadline Date: 07/12/2010.

EIDL Loan Application Deadline Date: 02/11/2011.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the Commonwealth of Kentucky, dated 05/11/2010 is hereby amended to include the following areas as adversely affected by the disaster:

Primary Counties: (Physical Damage and Economic Injury Loans): Fayette.

All other counties contiguous to the above named primary county have previously been declared.

All other information in the original declaration remains unchanged.

(Catalog of Federal Domestic Assistance Numbers 59002 and 59008)

Roger B. Garland,
Acting Associate Administrator for Disaster Assistance.

[FR Doc. 2010-15053 Filed 6-21-10; 8:45 am]

BILLING CODE 8025-01-P